DEPARTMENT OF TRANSPORTATION

Pipeline and Hazardous Materials Safety Administration

Office of Hazardous Materials Safety, Notice of Delays in Processing of Special Permit Applications

AGENCY: Pipeline and Hazardous Materials Safety Administration, DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ann Mazzullo, Office of Hazardous Materials Special Permits and Approvals, Pipeline and Hazardous Materials Safety Administration, U.S. Department of Transportation, 400 Seventh Street, SW., Washington, DC 20590-0001, (202) 366-4535.

Key to “Reason for Delay.”

1. Awaiting additional information from applicant.

2. Extensive public comment under review.

3. Application is technically complex and is of significant impact or precedent-setting and requires extensive analysis.

4. Staff review delayed by other priority issues or volume of special permit applications.

Meaning of Application Number Suffixes.

N—New application.

M—Modification request.

X—Renewal.

PM—Party to application with modification request.

Issued in Washington, DC, on January 18, 2007.
Delmer F. Billings,
Director, Office of Hazardous Materials Safety, Special Permits & Approvals.

Application No. | Applicant | Reason for delay | Estimated date of completion
New Special Permit Applications
14277-N | Ascus Technologies, Ltd., Cleveland, OH | 3, 4 | 02-28-2007
14316-N | VOTG North America, Inc., West Chester, PA | 3, 4 | 04-30-2007
14314-N | North American Automotive Hazmat Action Committee | 1 | 07-31-2007
14343-N | Valero St. Charles, Norco, LA | 4 | 02-28-2007
14337-N | NKCF Co., Ltd., Jisa-Dong, Kangseo-Gu Busan | 4 | 01-31-2007
14385-N | Kansas City Southern Railway Company, Kansas City, MO | 4 | 02-28-2007
14398-N | Lyondell Chemical Company, Houston, TX | 4 | 02-28-2007
14330-N | Chemical & Metal Industries, Inc., Hudson, CO | 4 | 03-31-2007
Modification to Special Permits
10481-M | M-1 Engineering Limited, Bradford, West Yorkshire | 4 | 03-31-2007
13598-M | Jadoo, Folsom, CA | 4 | 03-31-2007
11447-M | SAES Pure Gas, Inc., San Louis Obispo, CA | 4 | 02-28-2007

[FR Doc. 07-289 Filed 1-23-07; 8:45 am]

BILLING CODE 4910-60-M